DEPARTMENT OF COMMERCE

National Oceanic and Atmospheric Administration

50 CFR Part 679

[Docket No. 131021878-3878-01]

RIN 0648-XC927

Fisheries of the Exclusive Economic Zone Off Alaska; Bering Sea and Aleutian Islands; 2014 and 2015 Harvest Specifications for Groundfish

AGENCY: National Marine Fisheries Service (NMFS), National Oceanic and Atmospheric Administration (NOAA), Commerce.

ACTION: Proposed rule; request for comments.

SUMMARY: NMFS proposes 2014 and 2015 harvest specifications, apportionments, and prohibited species catch allowances for the groundfish fisheries of the Bering Sea and Aleutian Islands (BSAI) management area. This action is necessary to establish harvest limits for groundfish during the 2014 and 2015 fishing years, and to accomplish the goals and objectives of the Fishery Management Plan for Groundfish of the Bering Sea and Aleutian Islands Management Area. The intended effect of this action is to conserve and manage the groundfish resources in the BSAI in accordance with the Magnuson-Stevens Fishery Conservation and Management Act.

DATES: Comments must be received by January 9, 2014.

ADDRESSES: You may submit comments on this document, identified by NOAA-NMFS-2013-0152, by any of the following methods:

• Electronic Submission: Submit all electronic public comments via the Federal e-Rulemaking Portal. Go to www.regulations.gov/#!docketDetail;D=NOAA-NMFS-2013-0152, click the “Comment Now!” icon, complete the required fields, and enter or attach your comments.

• Mail: Address written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the Alaska Groundfish Harvest Specifications Final Environmental Impact Statement (Final EIS), Supplementary Information Report (SIR) and the Initial Regulatory Flexibility Analysis (IRFA) prepared for this action may be obtained from http://www.regulations.gov or from the Alaska Region Web site at http://alaskafisheries.noaa.gov. The final 2012 Stock Assessment and Fishery Evaluation (SAFE) report for the groundfish resources of the BSAI, dated November 2012, is available from the North Pacific Fishery Management Council (Council) at 605 West 4th Avenue, Suite 306, Anchorage, AK 99501-2252, phone 907-271-2809, or from the Council's Web site at http://alaskafisheries.noaa.gov/npfmc. The draft 2013 SAFE report for the BSAI will be available from the same sources in November 2013.

FOR FURTHER INFORMATION CONTACT: Steve Whitney, 907-586-7228.

SUPPLEMENTARY INFORMATION: Federal regulations at 50 CFR part 679 implement the Fishery Management Plan for Groundfish of the Bering Sea and Aleutian Islands Management Area (FMP) and govern the groundfish fisheries in the BSAI. The Council prepared the FMP and NMFS approved it under the Magnuson-Stevens Fishery Conservation and Management Act (Magnuson-Stevens Act). General regulations governing U.S. fisheries also appear at 50 CFR part 600.

The FMP and its implementing regulations require NMFS, after consultation with the Council, to specify annually the total allowable catch (TAC) for each target species category. The sum TAC for all groundfish species must be within the optimum yield (OY) range of 1.4 million to 2.0 million metric tons (mt) (see § 679.20(a)(1)(i)). Section 679.20(c)(1) further requires NMFS to publish proposed harvest specifications in the Federal Register and solicit public comments on proposed annual TACs and apportionments thereof, prohibited species catch (PSC) allowances, prohibited species quota (PSQ) reserves established by § 679.21, seasonal allowances of pollock, Pacific cod, and Atka mackerel TAC, American Fisheries Act allocations, Amendment 80 allocations, and Community Development Quota (CDQ) reserve amounts established by § 679.20(b)(1)(ii). The proposed harvest specifications set forth in Tables 1 through 16 of this action satisfy these requirements.

Under § 679.20(c)(3), NMFS will publish the final harvest specifications for 2014 and 2015 after (1) considering comments received within the comment period (see DATES), (2) consulting with the Council at its December 2013 meeting, and (3) considering information presented in the Supplementary Information Report that assesses the need to prepare a Supplemental EIS (see ADDRESSES) and the final 2013 SAFE reports prepared for the 2014 and 2015 groundfish fisheries.

Other Actions Affecting the 2014 and 2015 Harvest Specifications

For 2014, the Board of Fisheries (BOF) for the State of Alaska (State) established a guideline harvest level (GHL) in State waters between 164 and 167 degrees west longitude in the BS subarea equal to 3 percent of the Pacific cod ABC in the BSAI. The action by the State does not require a downward adjustment of the proposed Bering Sea subarea Pacific cod TAC because the combined TAC and GHL (252,381 mt) are less than the proposed ABC of 300,390 mt.

For 2014, the BOF for the State of Alaska State established a guideline harvest level (GHL) in State waters in the Aleutian Islands subarea equal to 3 percent of the Pacific cod ABC in the BSAI. The action by the State does not require a downward adjustment of the proposed Aleutian Islands subarea Pacific cod TAC because the combined TAC and GHL (16,900 mt) equal the proposed ABC of 16,900 mt.

Accordingly, the Council will need to consider these GHLs when recommending the final 2014 and 2015 BSAI TACs. The Council is expected to set the final Bering Sea TACs less than the ABCs by amounts that account for these 2014 and 2015 GHLs. In addition, the Plan Team is reviewing the stock structure of BSAI groundfish and may recommend allocating current OFLs or ABCs by subareas or reporting areas.

Proposed ABC and TAC Harvest Specifications

At the October 2013 Council meeting, the SSC, Advisory Panel (AP), and Council reviewed the most recent biological and harvest information about the condition of the BSAI groundfish stocks. The Council's Plan Team compiled and presented this information, which was initially compiled by the Plan Team and presented in the final 2012 SAFE report for the BSAI groundfish fisheries, dated November 2012 (see ADDRESSES). The amounts proposed for the 2014 and 2015 harvest specifications are based on the 2012 SAFE report, and are subject to change in the final harvest specifications to be published by NMFS following the Council's December 2013 meeting. In November 2013, the Plan Team updated the 2012 SAFE report to include new information collected during 2013, such as NMFS stock surveys, revised stock assessments, and catch data. At its December 2013 meeting, the Council will consider information contained in the final 2013 SAFE report, recommendations from the November 2013 Plan Team meeting, public testimony from the December 2013 SSC and AP meetings, and relevant written comments in making its recommendations for the final 2014 and 2015 harvest specifications.

In previous years, some of the largest changes from the proposed to the final harvest specifications have been based on the most recent NMFS stock surveys, which provide updated estimates of stock biomass and spatial distribution, and changes to the models used in the stock assessments. These changes are recommended by the Plan Team in November 2013 and are included in the 2013 final SAFE report. The 2013 final SAFE report includes the most recent information, such as 2013 catch. The final harvest specification amounts for these stocks are not expected to vary greatly from the proposed specification amounts published here.

If the final 2013 SAFE report indicates that the stock biomass trend is increasing for a species, then the final 2014 and 2015 harvest specifications may reflect that increase from the proposed harvest specifications. Conversely, if the final 2013 SAFE report indicates that the stock biomass trend is decreasing for a species, then the final 2014 and 2015 harvest specifications may reflect a decrease from the proposed harvest specifications. In addition to changes driven by biomass trends, there may be changes in TACs due to the sum of ABCs exceeding 2 million mt. Since the FMP requires TACs to be set to an OY between 1.4 and 2 million mt, the Council may be required to recommend TACs that are lower than the ABCs recommended by the Plan Team, if setting TACs equal to ABC would cause TAC to exceed an OY of 2 million mt. Generally, ABCs greatly exceed 2 million mt in years with a large pollock biomass. NMFS anticipates that, both for 2014 and 2015, the sum of the ABCs will exceed 2 million mt. NMFS expects that the final total TAC for the BSAI for both 2014 and 2015 will equal 2 million mt.

The proposed ABCs and TACs are based on the best available biological and socioeconomic data, including projected biomass trends, information on assumed distribution of stock biomass, and revised methods used to calculate stock biomass. The FMP specifies a series of six tiers to define OFLs and ABCs based on the level of reliable information available to fishery scientists. Tier one represents the highest level of information quality available while tier six represents the lowest.

In October 2013, the SSC adopted the proposed 2014 and 2015 OFLs and ABCs recommended by the Plan Team for all groundfish species. The Council adopted the SSC's OFL and ABC recommendations. These amounts are unchanged from the final 2014 harvest specifications published in the Federal Register on March 1, 2013 (78 FR 13813) except for Pacific cod and Kamchatka flounder. For Pacific cod, separate BS and AI harvest specifications were recommended. For the eastern Bering Sea (EBS), the Plan Team used 93 percent of the combined 2014 BSAI OFL and ABC published last year. For the AI, the Plan Team used Tier 5 estimates from last year's preliminary assessment, noting that it will review a revised model in November 2013. The proposed 2014 OFL and ABC for Kamchatka flounder were obtained using results from the preliminary Tier 3 assessment that was approved for use in November by the Plan Team. The Council adopted the AP's TAC recommendations except for Pacific cod, pollock, yellowfin sole, and rock sole. The Council decreased the AI Pacific cod TAC to account for the State's AI GHL of 3 percent of the BSAI ABC, and increased by that same amount the TACs for BS Pacific cod, pollock, yellowfin sole, and rock sole. For 2014 and 2015, the Council recommended and NMFS proposes the OFLs, ABCs, and TACs listed in Table 1. The proposed ABCs reflect harvest amounts that are less than the specified overfishing amounts. The sum of the proposed 2014 and 2015 ABCs for all assessed groundfish is 2,686,688 mt, which is higher than the final 2013 ABC total of 2,639,317 mt (78 FR 13813, March 1, 2013).

Specification and Apportionment of TAC Amounts

The Council recommended proposed TACs for 2014 and 2015 that are equal to proposed ABCs for sablefish, Kamchatka flounder, Pacific ocean perch, shortraker rockfish, rougheye rockfish, AI “other rockfish,” and Eastern AI/BS Atka mackerel. The Council recommended proposed TACs for 2014 and 2015 that are less than the proposed ABCs for pollock, Pacific cod, Western and Central AI Atka mackerel, Greenland turbot, yellowfin sole, rock sole, arrowtooth flounder, flathead sole, “other flatfish,” Alaska plaice, northern rockfish, BS “other rockfish,” squids, sharks, skates, sculpins, and octopuses.

Section 679.20(a)(5)(iii)(B)(1) requires the AI pollock TAC to be set at 19,000 mt when the AI pollock ABC equals or exceeds 19,000 mt. The Bogoslof pollock TAC is set to accommodate incidental catch amounts. TACs are set so that the sum of the overall TAC does not exceed the BSAI OY.

The proposed groundfish OFLs, ABCs, and TACs are subject to change pending the completion of the final 2013 SAFE report and the Council's recommendations for final 2014 and 2015 harvest specifications during its December 2013 meeting. These proposed amounts are consistent with the biological condition of groundfish stocks as described in the 2012 SAFE report, and adjusted for other biological and socioeconomic considerations. Pursuant to section 3.2.3.4.1 of the FMP, the Council could recommend adjusting the TACs if “warranted on the basis of bycatch considerations, management uncertainty, or socioeconomic considerations, or if required in order to cause the sum of the TACs to fall within the OY range.” Table 1 lists the proposed 2014 and 2015 OFL, ABC, TAC, initial TAC (ITAC), and CDQ amounts for groundfish for the BSAI. The proposed apportionment of TAC amounts among fisheries and seasons is discussed below.

Table 1—Proposed 2014 and 2015 Overfishing Level (OFL), Acceptable Biological Catch (ABC), Total Allowable Catch (TAC), Initial TAC (ITAC), and CDQ Reserve Allocation of Groundfish in the BSAI ¹
[Amounts are in metric tons]
Species | Area | Proposed 2014 and 2015: OFL | Proposed 2014 and 2015: ABC | Proposed 2014 and 2015: TAC | Proposed 2014 and 2015: ITAC ² | Proposed 2014 and 2015: CDQ 3 4 5
Pollock | BS | 2,730,000 | 1,430,000 | 1,252,500 | 1,127,250 | 125,250
| AI | 48,600 | 39,800 | 19,000 | 17,100 | 1,900
| Bogoslof | 13,400 | 10,100 | 100 | 100 | 0
Pacific cod | BS | 352,470 | 300,390 | 245,000 | 218,785 | 26,215
| AI | 22,500 | 16,900 | 7,381 | 6,591 | 790
Sablefish | BS | 1,760 | 1,480 | 1,480 | 629 | 56
| AI | 2,370 | 2,010 | 2,010 | 427 | 38
Yellowfin sole | BSAI | 219,000 | 206,000 | 200,000 | 178,600 | 21,400
Greenland turbot | BSAI | 3,270 | 2,650 | 2,060 | 1,751 | 0
| BS | n/a | 2,070 | 1,610 | 1,369 | 172
| AI | n/a | 580 | 450 | 383 | 0
Arrowtooth flounder | BSAI | 186,000 | 152,000 | 25,000 | 21,250 | 2,675
Kamchatka flounder | BSAI | 8,300 | 7,100 | 7,100 | 6,035 | 0
Northern rock sole ⁶ | BSAI | 229,000 | 204,000 | 94,569 | 80,384 | 10,119
Flathead sole ⁷ | BSAI | 80,100 | 66,700 | 22,699 | 19,294 | 2,429
Alaska plaice | BSAI | 60,200 | 55,800 | 23,700 | 20,145 | 0
Other flatfish ⁸ | BSAI | 17,800 | 13,300 | 3,500 | 2,975 | 0
Pacific Ocean perch | BSAI | 39,500 | 33,100 | 33,100 | 28,135 | 2,720
| BS | n/a | 7,680 | 7,680 | 6,528 | 0
| EAI | n/a | 9,240 | 9,240 | 7,854 | 989
| CAI | n/a | 6,590 | 6,590 | 5,602 | 705
| WAI | n/a | 9,590 | 9,590 | 8,152 | 1,026
Northern rockfish | BSAI | 12,000 | 9,320 | 3,000 | 2,550 | 0
Blackspotted/Rougheye rockfish ⁹ | BSAI | 524 | 429 | 429 | 365 | 0
| EBS/EAI | n/a | 189 | 189 | 161 | 0
| CAI/WAI | n/a | 240 | 240 | 204 | 0
Shortraker rockfish | BSAI | 493 | 370 | 370 | 315 | 0
Other rockfish | BSAI | 1,540 | 1,159 | 873 | 742 | 0
| BS | n/a | 686 | 400 | 340 | 0
| AI | n/a | 473 | 473 | 402 | 0
Atka mackerel | BSAI | 56,500 | 48,900 | 25,379 | 21,572 | 2,716
| EAI/BS | n/a | 16,500 | 16,500 | 14,025 | 1,766
| CAI | n/a | 15,700 | 7,379 | 6,272 | 790
| WAI | n/a | 16,700 | 1,500 | 1,275 | 161
Skates | BSAI | 44,100 | 37,300 | 24,000 | 20,400 | 0
Sculpins | BSAI | 56,400 | 42,300 | 5,600 | 4,760 | 0
Sharks | BSAI | 1,360 | 1,020 | 150 | 128 | 0
Squids | BSAI | 2,620 | 1,970 | 500 | 425 | 0
Octopuses | BSAI | 3,450 | 2,590 | 500 | 425 | 0
Total |  | 4,193,257 | 2,686,688 | 2,000,000 | 1,781,132 | 196,306
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species (Atka mackerel, Aleutian Islands Pacific ocean perch, yellowfin sole, rock sole, flathead sole, and Pacific cod), 15 percent of each TAC is put into a reserve. The ITAC for these species is the remainder of the TAC after the subtraction of these reserves.
³ Under § 679.20(a)(5)(i)(A)(1), the annual Bering Sea subarea pollock TAC, after subtracting first for the CDQ directed fishing allowance (10 percent) and second for the incidental catch allowance (3.4 percent), is further allocated by sector for a directed pollock fishery as follows: inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (1,600 mt), is allocated to the Aleut Corporation for a directed pollock fishery.
⁴ The Pacific cod TAC is reduced by 3 percent from the ABC to account for the State of Alaska guideline harvest level in state waters of the Aleutian Islands subarea.
⁵ For the Amendment 80 species (Atka mackerel, Aleutian Islands Pacific ocean perch, yellowfin sole, rock sole, flathead sole, and Pacific cod), 10.7 percent of the TAC is reserved for use by CDQ participants (see §§ 679.20(b)(1)(ii)(C) and 679.31). Twenty percent of the sablefish TAC allocated to hook-and-line gear or pot gear, 7.5 percent of the sablefish TAC allocated to trawl gear. The 2014 hook-and-line and pot gear portion of the sablefish ITAC and CDQ reserve will not be specified until the fall of 2013. 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, Kamchatka flounder, northern rockfish, shortraker rockfish, rougheye rockfish, “other rockfish,” squids, octopuses, skates, sculpins, and sharks are not allocated to the CDQ program.
⁶ “Rock sole” includes Lepidopsetta polyxystra (Northern rock sole) and Lepidopsetta bilineata (Southern rock sole).
⁷ “Flathead sole” includes Hippoglossoides elassodon (flathead sole) and Hippoglossoides robustus (Bering flounder).
⁸ “Other flatfish” includes all flatfish species, except for halibut (a prohibited species), flathead sole, Greenland turbot, rock sole, yellowfin sole, arrowtooth flounder, Kamchatka flounder, and Alaska plaice.
⁹ “Rougheye rockfish” includes Sebastes aleutianus (rougheye) and Sebastes melanostictus (blackspotted).
¹⁰ ”Other rockfish” includes all Sebastes and Sebastolobus species except for Pacific ocean perch, northern, shortraker, and rougheye rockfish.

Groundfish Reserves and the Incidental Catch Allowance (ICA) for Pollock, Atka Mackerel, Flathead Sole, Rock Sole, Yellowfin Sole, and AI Pacific Ocean Perch

Section 679.20(b)(1)(i) requires NMFS to reserve 15 percent of the TAC for each target species category, except for pollock, hook-and-line or pot gear allocation of sablefish, and Amendment 80 species, in a non-specified reserve. Section 679.20(b)(1)(ii)(B) requires NMFS to allocate 20 percent of the hook-and-line or pot gear allocation of sablefish to the fixed gear sablefish CDQ reserve. Section 679.20(b)(1)(ii)(D) requires NMFS to allocate 7.5 percent of the trawl gear allocation of sablefish and 10.7 percent of Bering Sea Greenland turbot and arrowtooth flounder to the respective CDQ reserves. Section 679.20(b)(1)(ii)(C) requires NMFS to allocate 10.7 percent of the TACs for Atka mackerel, AI Pacific ocean perch, yellowfin sole, rock sole, flathead sole, and Pacific cod to the CDQ reserves. Sections 679.20(a)(5)(i)(A) and 679.31(a) also require allocation of 10 percent of the BSAI pollock TACs to the pollock CDQ directed fishing allowance (DFA). The entire Bogoslof District pollock TAC is allocated as an ICA (see § 679.20(a)(5)(ii)). With the exception of the hook-and-line and pot gear sablefish CDQ reserve, the regulations do not further apportion the CDQ reserves by gear.

Pursuant to § 679.20(a)(5)(i)(A)(1), NMFS proposes a pollock ICA of 3.4 percent of the Bering Sea subarea pollock TAC after subtracting the 10 percent CDQ reserve. This allowance is based on NMFS' examination of the pollock incidentally retained and discarded catch, including the incidental catch by CDQ vessels, in target fisheries other than pollock from 1999 through 2013. During this 15-year period, the pollock incidental catch ranged from a low of 2.3 percent in 2012 to a high of 5 percent in 1999, with a 15-year average of 3.4 percent. Pursuant to § 679.20(a)(5)(iii)(B)(2)(i) and (ii), NMFS proposes a pollock ICA of 2,000 mt for the AI subarea after subtracting the 10 percent CDQ DFA. This allowance is based on NMFS' examination of the pollock incidental catch, including the incidental catch by CDQ vessels, in target fisheries other than pollock from 2003 through 2013. During this 11-year period, the incidental catch of pollock ranged from a low of 5 percent in 2006 to a high of 17 percent in 2013, with an 11-year average of 8 percent.

Pursuant to § 679.20(a)(8) and (10), NMFS proposes ICAs of 5,000 mt of flathead sole, 10,000 mt of rock sole, 2,400 mt of yellowfin sole, 10 mt of Western Aleutian District Pacific ocean perch, 75 mt of Central Aleutian District Pacific ocean perch, 200 mt of Eastern Aleutian District Pacific ocean perch, 40 mt for Western Aleutian District Atka mackerel, 75 mt for Central Aleutian District Atka mackerel, and 1,000 mt of Eastern Aleutian District and Bering Sea subarea Atka mackerel after subtracting the 10.7 percent CDQ reserve. These ICAs are based on NMFS' examination of the average incidental retained and discarded catch in other target fisheries from 2003 through 2013.

The regulations do not designate the remainder of the non-specified reserve by species or species group. Any amount of the reserve may be apportioned to a target species that contributed to the non-specified reserve, provided that such apportionments do not result in overfishing (see § 679.20(b)(1)(i)).

Allocations of Pollock TAC Under the American Fisheries Act (AFA)

Section 679.20(a)(5)(i)(A) requires that Bering Sea pollock TAC be apportioned after subtracting 10 percent for the CDQ program and 3.4 percent for the ICA as a DFA as follows: 50 percent to the inshore sector, 40 percent to the catcher/processor sector, and 10 percent to the mothership sector. In the Bering Sea subarea, 40 percent of the DFA is allocated to the A season (January 20 to June 10) and 60 percent of the DFA is allocated to the B season (June 10 to November 1) (§ 679.20(a)(5)(i)(B)). The AI directed pollock fishery allocation to the Aleut Corporation is the amount of pollock remaining in the AI subarea after subtracting 1,900 mt for the CDQ DFA (10 percent), and 2,000 mt for the ICA (§ 679.20(a)(5)(iii)(B)(2)(ii)). In the AI subarea, the A season pollock TAC may equal up to 40 percent of the ABC and the remainder of the pollock TAC is allocated to the B season. Table 2 lists these proposed 2014 and 2015 amounts.

Section 679.20(a)(5)(i)(A)(4) also includes several specific requirements regarding Bering Sea subarea pollock allocations. First, 8.5 percent of the pollock allocated to the catcher/processor sector will be available for harvest by AFA catcher vessels with catcher/processor sector endorsements, unless the Regional Administrator receives a cooperative contract entered into by listed AFA C/Ps and all AFA catcher vessels with C/P sector endorsements, and the Regional Administrator determines the contract provides for the distribution of harvest among AFA catcher/processors and AFA catcher vessels in a manner agreed to by all members. Second, AFA catcher/processors not listed in the AFA are limited to harvesting not more than 0.5 percent of the pollock allocated to the catcher/processor sector. Table 2 lists the proposed 2014 and 2015 allocations of pollock TAC. Tables 13 through 16 list the AFA catcher/processor and catcher vessel harvesting sideboard limits. In past years, the proposed harvest specifications included text and tables describing pollock allocations to the Bering Sea subarea inshore pollock cooperatives and open access sector. These allocations are based on the submission of AFA inshore cooperative applications due to NMFS on December 1 of each calendar year. Because AFA inshore cooperative applications for 2014 have not been submitted to NMFS, thereby preventing NMFS from calculating 2014 allocations, NMFS has not included inshore cooperative text and tables in these proposed harvest specifications. NMFS will post 2014 AFA inshore cooperative allocations on the Alaska Region Web site at http://alaskafisheries.noaa.gov when they become available in December 2013.

Table 2 also lists proposed seasonal apportionments of pollock and harvest limits within the Steller Sea Lion Conservation Area (SCA). The harvest of pollock within the SCA, as defined at § 679.22(a)(7)(vii), is limited to no more than 28 percent of the DFA until before April 1, as provided in § 679.20(a)(5)(i)(C). The remaining 12 percent of the 40 percent annual DFA allocated to the A season may be taken outside the SCA before noon, April 1, or inside the SCA after noon, April 1. The A season pollock SCA harvest limit will be apportioned to each sector in proportion to each sector's allocated percentage of the DFA. Table 2 lists these proposed 2014 and 2015 amounts by sector.

Table 2—Proposed 2014 and 2015 Allocations of Pollock TACS to the Directed Pollock Fisheries and to the CDQ Directed Fishing Allowances (DFA) ¹
[Amounts are in metric tons]
Area and sector | 2014 and 2015 allocations | A season ¹: A season DFA | A season ¹: SCA harvest limit ² | B season ¹: B season DFA
Bering Sea subarea TAC | 1,252,500 | N/A | N/A | N/A
CDQ DFA | 125,250 | 50,100 | 35,070 | 75,150
ICA ¹ | 38,327 | N/A | N/A | N/A
AFA Inshore | 544,462 | 217,785 | 152,449 | 326,677
AFA Catcher/Processors ³ | 435,569 | 174,228 | 121,959 | 261,342
Catch by C/Ps | 398,546 | 159,418 | N/A | 239,128
Catch by C/Vs ³ | 37,023 | 14,809 | N/A | 22,214
Unlisted C/P Limit ⁴ | 2,178 | 871 | N/A | 1,307
AFA Motherships | 108,892 | 43,557 | 30,490 | 65,335
Excessive Harvesting Limit ⁵ | 190,562 | N/A | N/A | N/A
Excessive Processing Limit ⁶ | 326,677 | N/A | N/A | N/A
Total Bering Sea DFA (non-CDQ) | 1,088,924 | 435,569 | 304,899 | 653,354
Aleutian Islands subarea TAC | 19,000 | N/A | N/A | N/A
CDQ DFA | 1,900 | 760 | N/A | 1,140
ICA | 2,000 | 1,000 | N/A | 1,000
Aleut Corporation | 15,100 | 14,160 | N/A | 940
Bogoslof District ICA ⁷ | 100 | N/A | N/A | N/A
¹ Pursuant to § 679.20(a)(5)(i)(A), the annual Bering Sea subarea pollock TAC, after subtracting the CDQ DFA (10 percent) and the ICA (3.4 percent), is allocated as a DFA as follows: Inshore sector 50 percent, catcher/processor sector 40 percent, and mothership sector 10 percent. In the Bering Sea subarea, 40 percent of the DFA is allocated to the A season (January 20-June 10) and 60 percent of the DFA is allocated to the B season (June 10-November 1). Pursuant to § 679.20(a)(5)(iii)(B)(2)(i) and (ii), the annual AI pollock TAC, after subtracting first for the CDQ DFA (10 percent) and second the ICA (2,000 mt), is allocated to the Aleut Corporation for a directed pollock fishery. In the AI subarea, the A season is allocated 40 percent of the ABC and the B season is allocated the remainder of the directed pollock fishery.
² In the Bering Sea subarea, no more than 28 percent of each sector's annual DFA may be taken from the SCA before April 1. The remaining 12 percent of the annual DFA allocated to the A season may be taken outside of the SCA before April 1 or inside the SCA after April 1. If 28 percent of the annual DFA is not taken inside the SCA before April 1, the remainder is available to be taken inside the SCA after April 1.
³ Pursuant to § 679.20(a)(5)(i)(A)(4), not less than 8.5 percent of the DFA allocated to listed catcher/processors (C/Ps) shall be available for harvest only by eligible catcher vessels (CVs) delivering to listed catcher/processors.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the pollock DFAs not including CDQ.
⁶ Pursuant to § 679.20(a)(5)(i)(A)(7), NMFS establishes an excessive processing share limit equal to 30.0 percent of the sum of the pollock DFAs not including CDQ.
⁷ The Regional Administrator proposes closing the Bogoslof pollock fishery for directed fishing under the final 2014 and 2015 harvest specifications for the BSAI. The amounts specified are for incidental catch only and are not apportioned by season or sector.

Allocation of the Atka Mackerel TACs

Section 679.20(a)(8) allocates the Atka mackerel TACs to the Amendment 80 and BSAI trawl limited access sectors, after subtracting the CDQ reserves, jig gear allocation, and ICAs for the BSAI trawl limited access sector and non-trawl gear (Table 3). The percentage of the ITAC for Atka mackerel allocated to the Amendment 80 and BSAI trawl limited access sectors is listed in Table 33 to part 679 and in § 679.91. Pursuant to § 679.20(a)(8)(i), up to 2 percent of the Eastern Aleutian District and Bering Sea subarea Atka mackerel ITAC may be allocated to jig gear. The percent of this allocation is recommended annually by the Council based on several criteria, including the anticipated harvest capacity of the jig gear fleet. The Council recommended and NMFS proposes a 0.5 percent allocation of the Atka mackerel ITAC in the Eastern Aleutian District and Bering Sea subarea to jig gear in 2014 and 2015. This percentage is applied to the TAC after subtracting the CDQ reserve and the ICA. Section 679.20(a)(8)(ii)(C)(3) limits the annual TAC for Area 542 to no more than 47 percent of the Area 542 ABC. Section 679.7(a)(19) prohibits retaining Atka mackerel in Area 543, and the proposed TAC is set to account for discards in other fisheries.

Section 679.20(a)(8)(ii)(A) apportions the Atka mackerel TAC (including the CDQ reserve) into two equal seasonal allowances. Section 679.23(e)(3) sets the first seasonal allowance for directed fishing with trawl gear from January 20 to June 10 (A season), and the second seasonal allowance from June 10 to November 1 (B season). Section 679.23(e)(4)(iii) applies Atka mackerel seasons to CDQ Atka mackerel fishing. The jig gear and ICA allocations are not apportioned by season.

Sections 679.20(a)(8)(ii)(C)(1)(i) and (ii) require the Amendment 80 cooperatives and CDQ groups to limit harvest to 10 percent of their Central Aleutian District Atka mackerel allocation equally divided between the A and B seasons within waters 10 nautical miles (nm) to 20 nm of Gramp Rock and Tag Island, as described on Table 12 to part 679. Vessels not fishing under the authority of an Amendment 80 cooperative quota or CDQ allocation are prohibited from conducting directed fishing for Atka mackerel inside Steller sea lion critical habitat in the Central Aleutian District.

Two Amendment 80 cooperatives have formed for the 2014 fishing year. Because all Amendment 80 vessels are part of a cooperative, no allocation to the Amendment 80 limited access sector is required. NMFS will post 2014 Amendment 80 cooperative allocations on the Alaska Region Web site at http://alaskafisheries.noaa.gov prior to the start of the fishing year on January 1, 2014, based on the harvest specifications effective on that date.

Table 3 lists these 2014 and 2015 Atka mackerel season allowances, area allowances, and the sector allocations. The 2015 allocations for Amendment 80 species between Amendment 80 cooperatives and the Amendment 80 limited access sector will not be known until eligible participants apply for participation in the program by November 1, 2014. NMFS will post 2015 Amendment 80 cooperatives and Amendment 80 limited access allocations on the Alaska Region Web site at http://alaskafisheries.noaa.gov when they become available in December 2014.

Table 3—Proposed 2014 and 2015 Seasonal and Spatial Allowances, Gear Shares, CDQ Reserve, Incidental Catch Allowance, and Amendment 80 Allocations of the BSAI Atka Mackerel TAC
[Amounts are in metric tons]
Sector ¹ | Season 2 3 4 | Allocation by area: Eastern Aleutian District/Bering Sea | Allocation by area: Central Aleutian District | Allocation by area: Western Aleutian District
TAC | n/a | 16,500 | 7,379 | 1,500
CDQ reserve | Total | 1,766 | 790 | 161
| A | 883 | 395 | 80
| Critical habitat ⁵ | n/a | 39 | n/a
| B | 883 | 395 | 80
| Critical habitat ⁵ | n/a | 39 | n/a
ICA | Total | 1,000 | 75 | 40
Jig ⁶ | Total | 69 | 0 | 0
BSAI trawl limited access | Total | 1,367 | 651 | 0
| A | 683 | 326 | 0
| B | 683 | 326 | 0
Amendment 80 ⁷ | Total | 12,299 | 5,863 | 1,300
Alaska Groundfish Cooperative for 2014 | Total | 7,082 | 3,495 | 767
| A | 3,541 | 1,748 | 384
| Critical habitat ⁵ | n/a | 175 | n/a
| B | 3,541 | 1,748 | 384
| Critical habitat ⁵ | n/a | 175 | n/a
Alaska Seafood Cooperative for 2014 | Total | 5,217 | 2,368 | 532
| A | 2,609 | 1,184 | 266
| Critical habitat ⁵ | n/a | 118 | n/a
| B | 2,609 | 1,184 | 266
| Critical habitat ⁵ | n/a | 118 | n/a
¹ Section 679.20(a)(8)(ii) allocates the Atka mackerel TACs, after subtracting the CDQ reserves, ICAs, and the jig gear allocation, to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10, and the B season from June 10 to November 1.
⁵ Section 679.20(a)(8)(ii)(C) requires the TAC in area 542 shall be no more than 47 percent of ABC, and Atka mackerel harvests for Amendment 80 cooperatives and CDQ groups within waters 10 nm to 20 nm of Gramp Rock and Tag Island, as described in Table 12 to part 679, in Area 542 are limited to no more than 10 percent of the Amendment 80 cooperative Atka mackerel allocation or 10 percent of the CDQ Atka mackerel allocation.
⁶ Section 679.20(a)(8)(i) requires that up to 2 percent of the Eastern Aleutian District and Bering Sea subarea TAC be allocated to jig gear after subtraction of the CDQ reserve and ICA. The amount of this allocation is 0.5 percent. The jig gear allocation is not apportioned by season.
⁷ The 2015 allocations for Amendment 80 species between Amendment 80 cooperatives and the Amendment 80 limited access sector will not be known until eligible participants apply for participation in the program by November 1, 2014.

Allocation of the Pacific Cod TAC

The Council recommended and NMFS proposes separate BS and AI subarea OFLs, ABCs, and TACs for Pacific cod. Section 679.20(b)(1)(ii)(C) allocates 10.7 percent of the BS TAC and AI TAC to the CDQ program. After CDQ allocations have been deducted from the respective BS and AI Pacific cod TACs, the remaining BS and AI Pacific cod TACs will be combined for calculating further BSAI Pacific cod sector allocations. However, if the non-CDQ Pacific cod TAC is or will be reached in either the BS or AI subareas, NMFS will prohibit non-CDQ directed fishing for Pacific cod in that subarea as provided in § 679.20(d)(1)(iii).

Sections 679.20(a)(7)(i) and (ii) allocate the Pacific cod TAC in the combined BSAI TAC, after subtracting 10.7 percent for the CDQ program, as follows: 1.4 Percent to vessels using jig gear, 2.0 percent to hook-and-line and pot catcher vessels less than 60 ft (18.3 m) length overall (LOA), 0.2 percent to hook-and-line catcher vessels greater than or equal to 60 ft (18.3 m) LOA, 48.7 percent to hook-and-line catcher/processors, 8.4 percent to pot catcher vessels greater than or equal to 60 ft (18.3 m) LOA, 1.5 percent to pot catcher/processors, 2.3 percent to AFA trawl catcher/processors, 13.4 percent to non-AFA trawl catcher/processors, and 22.1 percent to trawl catcher vessels. The BSAI ICA for the hook-and-line and pot sectors will be deducted from the aggregate portion of BSAI Pacific cod TAC allocated to the hook-and-line and pot sectors. For 2014 and 2015, the Regional Administrator proposes a BSAI ICA of 500 mt, based on anticipated incidental catch in these fisheries.

The allocation of the BSAI ITAC for Pacific cod to the Amendment 80 sector is established in Table 33 to part 679 and § 679.91. Two Amendment 80 cooperatives have formed for the 2014 fishing year. Because all Amendment 80 vessels are part of a cooperative, no allocation to the Amendment 80 limited access sector is required. NMFS will post 2014 Amendment 80 cooperative allocations on the Alaska Region Web site at http://alaskafisheries.noaa.gov prior to the start of the fishing year on January 1, 2014, based on the harvest specifications effective on that date.

The 2015 allocations for Amendment 80 species between Amendment 80 cooperatives and the Amendment 80 limited access sector will not be known until eligible participants apply for participation in the program by November 1, 2014. NMFS will post 2015 Amendment 80 cooperatives and Amendment 80 limited access allocations on the Alaska Region Web site at http://alaskafisheries.noaa.gov when they become available in December 2014.

The Pacific cod ITAC is apportioned into seasonal allowances to disperse the Pacific cod fisheries over the fishing year (see §§ 679.20(a)(7) and 679.23(e)(5)). In accordance with § 679.20(a)(7)(iv)(B) and (C), any unused portion of a seasonal Pacific cod allowance will become available at the beginning of the next seasonal allowance.

The CDQ and non-CDQ season allowances by gear based on the proposed 2014 and 2015 Pacific cod TACs are listed in Table 4 based on the sector allocation percentages of Pacific cod set forth at §§ 679.20(a)(7)(i)(B) and 679.20(a)(7)(iv)(A); and the seasonal allowances of Pacific cod set forth at § 679.23(e)(5).

Section 679.7(a)(19) prohibits retaining Pacific cod in Area 543 and § 679.7(a)(23) prohibits directed fishing for Pacific cod with hook-and-line, pot, or jig gear in the AI subarea November 1 through December 31.

Table 4—Proposed 2014 and 2015 Gear Shares and Seasonal Allowances of the BSAI ¹ Pacific Cod TAC
[Amounts are in metric tons]
Gear sector | Percent | 2014 and 2015 share of gear sector total | 2014 and 2015 share of sector total | 2014 and 2015 seasonal apportionment: Season | 2014 and 2015 seasonal apportionment: Amount
BS TAC |  | 245,000 | n/a | n/a | n/a
BS CDQ |  | 26,215 | n/a | See § 679.20(a)(7)(i)(B) | n/a
AI TAC |  | 7,381 | n/a | n/a | n/a
AI CDQ |  | 790 | n/a | See § 679.20(a)(7)(i)(B) | n/a
Total BSAI non-CDQ TAC ¹ | 100 | 225,376 | n/a | n/a | n/a
Total hook-and-line/pot gear | 60.8 | 137,029 | n/a | n/a | n/a
Hook-and-line/pot ICA ² | n/a | n/a | 500 | n/a | n/a
Hook-and-line/pot sub-total | n/a | 136,529 | n/a | n/a | n/a
Hook-and-line catcher/processors | 48.7 | n/a | 109,358 | Jan 1-Jun 10 | 55,772
|  |  |  | Jun 10-Dec 31 | 53,585
Hook-and-line catcher vessels ≥60 ft LOA | 0.2 | n/a | 449 | Jan 1-Jun 10 | 229
|  |  |  | Jun 10-Dec 31 | 220
Pot catcher/processors | 1.5 | n/a | 3,368 | Jan 1-Jun 10 | 1,718
|  |  |  | Sept 1-Dec 31 | 1,650
Pot catcher vessels ≥60 ft LOA | 8.4 | n/a | 18,863 | Jan 1-Jun 10 | 9,620
|  |  |  | Sept 1-Dec 31 | 9,243
Catcher vessels <60 ft LOA using hook-and-line or pot gear | 2 | n/a | 4,491 | n/a | n/a
Trawl catcher vessels | 22.1 | 49,808 | n/a | Jan 20-Apr 1 | 36,858
|  |  |  | Apr 1-Jun 10 | 5,479
|  |  |  | Jun 10-Nov 1 | 7,471
AFA trawl catcher/processors | 2.3 | 5,184 | n/a | Jan 20-Apr 1 | 3,888
|  |  |  | Apr 1-Jun 10 | 1,296
|  |  |  | Jun 10-Nov 1 | 0
Amendment 80 | 13.4 | 30,200 | n/a | Jan 20-Apr 1 | 22,650
|  |  |  | Apr 1-Jun 10 | 7,550
|  |  |  | Jun 10-Nov 1 | 0
Alaska Groundfish Cooperative for 2014 ³ | n/a | 5,624 | n/a | Jan 20-Apr 1 | 4,218
|  |  |  | Apr 1-Jun 10 | 1,406
|  |  |  | Jun 10-Nov 1 | 0
Alaska Seafood Cooperative for 2014 ³ | n/a | 24,577 | n/a | Jan 20-Apr 1 | 18,433
|  |  |  | Apr 1-Jun 10 | 6,144
|  |  |  | Jun 10-Nov 1 | 0
Jig | 1.4 | 3,155 | n/a | Jan 1-Apr 30 | 1,893
|  |  |  | Apr 30-Aug 31 | 631
|  |  |  | Aug 31-Dec 31 | 631
¹ The gear shares and seasonal allowances for BSAI Pacific cod TAC are based on the sum of the BS and AI Pacific cod TACs. If the TAC for Pacific cod in either the AI or BS is reached, then directed fishing for Pacific cod in that subarea may be prohibited, even if a BSAI allowance remains.
² The ICA for the hook-and-line and pot sectors will be deducted from the aggregate portion of Pacific cod TAC allocated to the hook-and-line and pot sectors. The Regional Administrator proposes an ICA of 500 mt for 2014 and 2015 based on anticipated incidental catch in these fisheries.
³ The 2015 allocations for Amendment 80 species between Amendment 80 cooperatives and the Amendment 80 limited access sector will not be known until eligible participants apply for participation in the program by November 1, 2014.

Sablefish Gear Allocation

Sections 679.20(a)(4)(iii) and (iv) require allocation of sablefish TACs for the Bering Sea and AI subareas between trawl gear and hook-and-line or pot gear. Gear allocations of the TACs for the Bering Sea subarea are 50 percent for trawl gear and 50 percent for hook-and-line or pot gear. Gear allocations for the AI subarea are 25 percent for trawl gear and 75 percent for hook-and-line or pot gear. Section 679.20(b)(1)(ii)(B) requires NMFS to apportion 20 percent of the hook-and-line and pot gear allocation of sablefish to the CDQ reserve. Additionally, § 679.20(b)(1)(ii)(D)(1) requires that 7.5 percent of the trawl gear allocation of sablefish from the nonspecified reserves, established under § 679.20(b)(1)(i), be assigned to the CDQ reserve. The Council recommended that only trawl sablefish TAC be established biennially. The harvest specifications for the hook-and-line gear and pot gear sablefish Individual Fishing Quota (IFQ) fisheries will be limited to the 2014 fishing year to ensure those fisheries are conducted concurrently with the halibut IFQ fishery. Concurrent sablefish and halibut IFQ fisheries would reduce the potential for discards of halibut and sablefish in those fisheries. The sablefish IFQ fisheries would remain closed at the beginning of each fishing year until the final harvest specifications for the sablefish IFQ fisheries are in effect. Table 5 lists the proposed 2014 and 2015 gear allocations of the sablefish TAC and CDQ reserve amounts.

Table 5—Proposed 2014 and 2015 Gear Shares and CDQ Reserve of BSAI Sablefish TACS
[Amounts are in metric tons]
Subarea gear | Percent of TAC | 2014 share of TAC | 2014 ITAC ¹ | 2014 CDQ reserve | 2015 share of TAC | 2015 ITAC | 2015 CDQ reserve
Bearing Sea
Trawl | 50 | 740 | 629 | 56 | 740 | 629 | 56
Hook-and-line gear ² | 50 | 740 | n/a | 148 | n/a | n/a | n/a
Total | 100 | 1,480 | 629 | 204 | 740 | 629 | 56
Aleutian Islands
Trawl | 25 | 503 | 427 | 38 | 503 | 427 | 38
Hook-and-line gear ² | 75 | 1,508 | n/a | 302 | n/a | n/a | n/a
Total | 2,010 | 427 | 339 | 503 | 427 | 38
¹ Except for the sablefish hook-and-line or pot gear allocation, 15 percent of TAC is apportioned to the reserve. The ITAC is the remainder of the TAC after the subtraction of these reserves.
² For the portion of the sablefish TAC allocated to vessels using hook-and-line or pot gear, 20 percent of the allocated TAC is reserved for use by CDQ participants. Section 679.20(b)(1) does not provide for the establishment of an ITAC for sablefish allocated to hook-and-line or pot gear.

Allocation of the Aleutian Islands Pacific Ocean Perch, and BSAI Flathead Sole, Rock Sole, and Yellowfin Sole TACs

Sections 679.20(a)(10)(i) and (ii) require that NMFS allocate AI Pacific ocean perch, and BSAI flathead sole, rock sole, and yellowfin sole TACs between the Amendment 80 and BSAI trawl limited access sectors, after subtracting 10.7 percent for the CDQ reserve and an ICA for the BSAI trawl limited access sector and vessels using non-trawl gear. The allocation of the ITAC for AI Pacific ocean perch, and BSAI flathead sole, rock sole, and yellowfin sole to the Amendment 80 sector is established in Tables 33 and 34 to part 679 and in § 679.91.

Two Amendment 80 cooperatives have formed for the 2014 fishing year. Because all Amendment 80 vessels are part of a cooperative, no allocation to the Amendment 80 limited access sector is required. NMFS will post 2014 Amendment 80 cooperative allocations on the Alaska Region Web site at http://alaskafisheries.noaa.gov prior to the start of the fishing year on January 1, 2014, based on the harvest specifications effective on that date.

The 2015 allocations for Amendment 80 species between Amendment 80 cooperatives and the Amendment 80 limited access sector will not be known until eligible participants apply for participation in the program by November 1, 2014. NMFS will post 2015 Amendment 80 cooperatives and Amendment 80 limited access allocations on the Alaska Region Web site at http://alaskafisheries.noaa.gov when they become available in December 2014.

Table 6 lists the proposed 2014 and 2015 allocations of the AI Pacific ocean perch, and BSAI flathead sole, rock sole, and yellowfin sole TACs.

Table 6-Proposed 2014 and 2015 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | 2014 and 2015 allocations: Pacific ocean perch: Eastern Aleutian District | 2014 and 2015 allocations: Pacific ocean perch: Central Aleutian District | 2014 and 2015 allocations: Pacific ocean perch: Western Aleutian District | 2014 and 2015 allocations: Flathead sole: BSAI | 2014 and 2015 allocations: Rock sole: BSAI | 2014 and 2015 allocations: Yellowfin sole: BSAI
TAC | 9,240 | 6,590 | 9,590 | 22,699 | 94,569 | 200,000
CDQ | 989 | 705 | 1,026 | 2,429 | 10,119 | 21,400
ICA | 200 | 75 | 10 | 5,000 | 10,000 | 2,400
BSAI trawl limited access | 805 | 581 | 171 | 0 | 0 | 35,422
Amendment 80 | 7,246 | 5,229 | 8,383 | 15,270 | 74,450 | 140,778
Alaska Groundfish Cooperative for 2014¹ | 3,404 | 2,456 | 3,938 | 2,997 | 21,270 | 60,460
Alaska Seafood Cooperative for 2014¹ | 3,842 | 2,773 | 4,445 | 12,273 | 53,180 | 80,317
¹ The 2015 allocations for Amendment 80 species between Amendment 80 cooperatives and the Amendment 80 limited access sector will not be known until eligible participants apply for participation in the program by November 1, 2014.

Allocation of PSC Limits for Halibut, Salmon, Crab, and Herring

Section 679.21(e) sets forth the BSAI PSC limits. Pursuant to § 679.21(e)(1)(iv) and (e)(2), the 2014 and 2015 BSAI halibut mortality limits are 3,675 mt for trawl fisheries, and 900 mt for the non-trawl fisheries. Sections 679.21(e)(3)(i)(A)(2) and (e)(4)(i)(A) allocate 326 mt of the trawl halibut mortality limit and 7.5 percent, or 67 mt, of the non-trawl halibut mortality limit as the PSQ reserve for use by the groundfish CDQ program.

Section 679.21(e)(4)(i) authorizes apportionment of the non-trawl halibut PSC limit into PSC bycatch allowances among six fishery categories. Table 9 lists the fishery bycatch allowances for the trawl fisheries, and Table 10 lists the fishery bycatch allowances for the non-trawl fisheries.

Pursuant to section 3.6 of the BSAI FMP, the Council recommends, and NMFS agrees, that certain specified non-trawl fisheries be exempt from the halibut PSC limit. As in past years after consultation with the Council, NMFS exempts pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ program requires legal-size halibut to be retained by vessels using hook-and-line gear if a halibut IFQ permit holder or a hired master is aboard and is holding unused halibut IFQ (subpart D of 50 CFR part 679). In 2013, total groundfish catch for the pot gear fishery in the BSAI was 26,433 mt, with an associated halibut bycatch mortality of 2 mt.

The 2013 jig gear fishery harvested about 11 mt of groundfish. Most vessels in the jig gear fleet are exempt from observer coverage requirements. As a result, observer data are not available on halibut bycatch in the jig gear fishery. However, as mentioned above, NMFS estimates a negligible amount of halibut bycatch mortality because of the selective nature of jig gear and the low mortality rate of halibut caught with jig gear and released.

Under section 679.21(f)(2), NMFS annually allocates portions of either 47,591 or 60,000 Chinook salmon PSC among the AFA sectors, depending on past catch performance and on whether Chinook salmon bycatch incentive plan agreements are formed. If an AFA sector participates in an approved Chinook salmon bycatch incentive plan agreement, then NMFS will allocate a portion of the 60,000 PSC limit to that sector as specified in § 679.21(f)(3)(iii)(A). If no Chinook salmon bycatch incentive plan agreement is approved, or if the sector has exceeded its performance standard under § 679.21(f)(6), NMFS will allocate a portion of the 47,591 Chinook salmon PSC limit to that sector as specified in § 679.21(f)(3)(iii)(B). In 2014, the Chinook salmon PSC limit is 60,000, and the AFA sector Chinook salmon allocations are seasonally allocated with 70 percent of the allocation for the A season pollock fishery, and 30 percent of the allocation for the B season pollock fishery as stated in § 679.21(f)(3)(iii)(A). The basis for these PSC limits is described in detail in the final rule implementing management measures for Amendment 91 (75 FR 53026, August 30, 2010). NMFS publishes the approved Chinook salmon bycatch incentive plan agreements, allocations and reports at: http://alaskafisheries.noaa.gov/sustainablefisheries/bycatch/default.htm.

Section 679.21(e)(1)(viii) specifies 700 fish as the 2014 and 2015 Chinook salmon PSC limit for the AI subarea pollock fishery. Section 679.21(e)(3)(i)(A)(3)(i) allocates 7.5 percent, or 53 Chinook salmon, as the AI subarea PSQ for the CDQ program and allocates the remaining 647 Chinook salmon to the non-CDQ fisheries.

Section 679.21(e)(1)(vii) specifies 42,000 fish as the 2014 and 2015 non-Chinook salmon PSC limit in the Catcher Vessel Operational Area (CVOA). Section 679.21(e)(3)(i)(A)(3)(ii) allocates 10.7 percent, or 4,494, non-Chinook salmon in the CVOA as the PSQ for the CDQ program, and allocates the remaining 37,506 non-Chinook salmon to the non-CDQ fisheries.

PSC limits for crab and herring are specified annually based on abundance and spawning biomass. Due to the lack of new information as of October 2013 regarding Zone 1 red king crab and BSAI herring PSC limits and apportionments, the Council recommended and NMFS proposes basing the crab and herring 2014 and 2015 PSC limits and apportionments on the 2012 survey data. The Council will reconsider these amounts in December 2013. Pursuant to § 679.21(e)(3)(i)(A)(1), 10.7 percent of each PSC limit specified for crab is allocated as a PSQ reserve for use by the groundfish CDQ program.

Based on 2012 survey data, the red king crab mature female abundance is estimated at 21.1 million red king crabs, and the effective spawning biomass is estimated at 44.2 million lb (20,049 mt). Based on the criteria set out at § 679.21(e)(1)(i), the proposed 2014 and 2015 PSC limit of red king crab in Zone 1 for trawl gear is 97,000 animals. This limit derives from the mature female abundance estimate of more than 8.4 million red king crab and the effective spawning biomass estimate of more than 55 million lbs (24,948 mt).

Section 679.21(e)(3)(ii)(B)(2) establishes criteria under which NMFS must specify an annual red king crab bycatch limit for the Red King Crab Savings Subarea (RKCSS). The regulations limit the RKCSS to up to 25 percent of the red king crab PSC allowance. NMFS proposes the Council's recommendation that the red king crab bycatch limit be equal to 25 percent of the red king crab PSC allowance within the RKCSS (Table 8). Based on 2012 survey data, Tanner crab (Chionoecetes bairdi) abundance is estimated at 711 million animals. Pursuant to criteria set out at § 679.21(e)(1)(ii), the calculated 2014 and 2015 C. bairdi crab PSC limit for trawl gear is 980,000 animals in Zone 1, and 2,970,000 animals in Zone 2. These limits derive from the C. bairdi crab abundance estimate being in excess of 400 million animals for both the Zone 1 and Zone 2 allocations. Pursuant to § 679.21(e)(1)(iii), the PSC limit for snow crab (C. opilio) is based on total abundance as indicated by the NMFS annual bottom trawl survey. The C. opilio crab PSC limit is set at 0.1133 percent of the Bering Sea abundance index minus 150,000 crabs. Based on the 2012 survey estimate of 9.401 billion animals, the calculated limit is 10,501,333 animals.

Pursuant to § 679.21(e)(1)(v), the PSC limit of Pacific herring caught while conducting any trawl operation for BSAI groundfish is 1 percent of the annual eastern Bering Sea herring biomass. The best estimate of 2014 and 2015 herring biomass is 264,802 mt. This amount was derived using 2012 survey data and an age-structured biomass projection model developed by the Alaska Department of Fish and Game. Therefore, the herring PSC limit proposed for 2014 and 2015 is 2,648 mt for all trawl gear as listed in Tables 7 and 8.

Section 679.21(e)(3)(i)(A) requires PSQ reserves to be subtracted from the total trawl PSC limits. The amount of the 2014 PSC limits assigned to the Amendment 80 and BSAI trawl limited access sectors are specified in Table 35 to part 679. The resulting allocation of PSC to CDQ PSQ, the Amendment 80 sector, and the BSAI trawl limited access sector are listed in Table 7. Pursuant to § 679.21(e)(1)(iv) and § 679.91(d) through (f), crab and halibut trawl PSC assigned to the Amendment 80 sector is then further allocated to Amendment 80 cooperatives as PSC cooperative quota as listed in Table 11. Two Amendment 80 cooperatives have formed for the 2014 fishing year. Because all Amendment 80 vessels are part of a cooperative, no allocation to the Amendment 80 limited access sector is required. NMFS will post 2014 Amendment 80 cooperative allocations on the Alaska Region Web site at http://alaskafisheries.noaa.gov prior to the start of the fishing year on January 1, 2014, based on the harvest specifications effective on that date.

The 2015 PSC allocations between Amendment 80 cooperatives and the Amendment 80 limited access sector will not be known until eligible participants apply for participation in the program by November 1, 2014. NMFS will post 2015 Amendment 80 cooperatives and Amendment 80 limited access allocations on the Alaska Region Web site at http://alaskafisheries.noaa.gov when they become available in December 2014.

Section 679.21(e)(5) authorizes NMFS, after consulting with the Council, to establish seasonal apportionments of PSC amounts for the BSAI trawl limited access and Amendment 80 limited access sectors to maximize the ability of the fleet to harvest the available groundfish TAC and to minimize bycatch. The factors considered are (1) seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors.

NMFS proposes the Council's recommendation of the seasonal PSC apportionments in Table 9 to maximize harvest among gear types, fisheries, and seasons while minimizing bycatch of PSC based on the above criteria.

Table 7—Proposed 2014 and 2015 Apportionment of Prohibited Species Catch Allowances to Non-trawl Gear, the CDQ Program, Amendment 80, and the BSAI Trawl Limited Access Sectors
PSC species and area ¹ | Total non-trawl PSC | Non-trawl PSC remaining after CDQ PSQ ² | Total trawl PSC | Trawl PSC remaining after CDQ PSQ ² | CDQ PSQ reserve ² | Amendment 80 sector ³ | BSAI trawl limited access fishery
Halibut mortality (mt) BSAI | 900 | 832 | 3,675 | 3,349 | 393 | 2,325 | 875
Herring (mt) BSAI | n/a | n/a | 2,648 | n/a | n/a | n/a | n/a
Red king crab (animals) Zone 1 | n/a | n/a | 97,000 | 86,621 | 10,379 | 43,293 | 26,489
C. opilio (animals) COBLZ | n/a | n/a | 10,501,333 | 9,377,690 | 1,123,643 | 4,609,135 | 3,013,990
C. bairdi crab (animals) Zone 1 | n/a | n/a | 980,000 | 875,140 | 104,860 | 368,521 | 411,228
C. bairdi crab (animals) Zone 2 | n/a | n/a | 2,970,000 | 2,652,210 | 317,790 | 627,778 | 1,241,500
¹ Refer to § 679.2 for definitions of zones.
² Section 679.21(e)(3)(i)(A)(2) allocates 326 mt of the trawl halibut mortality limit and § 679.21(e)(4)(i)(A) allocates 7.5 percent, or 67 mt, of the non-trawl halibut mortality limit as the PSQ reserve for use by the groundfish CDQ program. The PSQ reserve for crab species is 10.7 percent of each crab PSC limit.
³ The Amendment 80 program reduced apportionment of the trawl PSC limits by 150 mt for halibut mortality and 20 percent for crab PSC. These reductions are not apportioned to other gear types or sectors.

Table 8—Proposed 2014 and 2015 Herring and Red King Crab Savings Subarea Prohibited Species Catch Allowances for all Trawl Sectors
Fishery categories | Herring (mt) BSAI | Red king crab (animals) Zone 1
Yellowfin sole | 180 | n/a
Rock sole/flathead sole/other flatfish ¹ | 30 | n/a
Greenland turbot/arrowtooth/sablefish ² | 20 | n/a
Rockfish | 13 | n/a
Pacific cod | 40 | n/a
Midwater trawl pollock | 2,165 | n/a
Pollock/Atka mackerel/other species ³,⁴ | 200 | n/a
Red king crab savings subarea non-pelagic trawl gear ⁵ | n/a | 24,250
Total trawl PSC | 2,648 | 97,000
¹ “Other flatfish” for PSC monitoring includes all flatfish species, except for halibut (a prohibited species), arrowtooth flounder, flathead sole, Greenland turbot, Kamchatka flounder, rock sole, and yellowfin sole.
² “Arrowtooth flounder” for PSC monitoring includes Kamchatka flounder.
³ Pollock other than pelagic trawl pollock, Atka mackerel, and “other species” fishery category.
⁴ “Other species” for PSC monitoring includes sculpins, sharks, skates, and octopuses.
⁵ In October 2013 the Council recommended that the red king crab bycatch limit for non-pelagic trawl fisheries within the RKCSS be limited to 25 percent of the red king crab PSC allowance (see § 679.21(e)(3)(ii)(B)(2)).

Table 9—Proposed 2014 and 2015 Prohibited Species Bycatch Allowances for the BSAI Trawl Limited Access Sector
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 167 | 23,338 | 2,840,175 | 346,228 | 1,185,500
Rock sole/flathead sole/other flatfish ² | 0 | 0 | 0 | 0 | 0
Turbot/arrowtooth/sablefish ³ | 0 | 0 | 0 | 0 | 0
Rockfish April 15-December 31 | 5 | 0 | 4,828 | 0 | 1,000
Pacific cod | 453 | 2,954 | 120,705 | 60,000 | 50,000
Pollock/Atka mackerel/other species ⁴ | 250 | 197 | 48,282 | 5,000 | 5,000
Total BSAI trawl limited access PSC | 875 | 26,489 | 3,013,990 | 411,228 | 1,241,500
¹ Refer to § 679.2 for definitions of areas.
² “Other flatfish” for PSC monitoring includes all flatfish species, except for halibut (a prohibited species), arrowtooth flounder, flathead sole, Greenland turbot, Kamchatka flounder, rock sole, and yellowfin sole.
³ “Arrowtooth flounder” for PSC monitoring includes Kamchatka flounder.
⁴ “Other species” for PSC monitoring includes sculpins, sharks, skates, and octopuses.

Table 10—Proposed 2014 and 2015 Halibut Prohibited Species Bycatch Allowances for Non-Trawl Fisheries
Halibut mortality (mt) BSAI: Non-trawl fisheries | Halibut mortality (mt) BSAI: Catcher/ processor | Halibut mortality (mt) BSAI: Catcher vessel
Pacific cod-Total | 760 | 15
January 1-June 10 | 455 | 10
June 10-August 15 | 190 | 3
August 15-December 31 | 115 | 2
Other non-trawl-Total |  | 58
May 1-December 31 |  | 58
Groundfish pot and jig |  | Exempt
Sablefish hook-and-line |  | Exempt
Total non-trawl PSC |  | 833

Table 11—Proposed 2014 Prohibited Species Bycatch Allowance for the BSAI Amendment 80 Cooperatives
Cooperative | Prohibited species and zones ¹: Halibut mortality (mt) BSAI | Prohibited species and zones ¹: Red king crab (animals) Zone 1 | Prohibited species and zones ¹: C. opilio (animals) COBLZ | Prohibited species and zones ¹: C. bairdi (animals): Zone 1 | Prohibited species and zones ¹: C. bairdi (animals): Zone 2
Alaska Groundfish Cooperative | 723 | 14,008 | 1,651,657 | 110,580 | 196,583
Alaska Seafood Cooperative | 1,602 | 29,285 | 2,957,478 | 257,941 | 431,195
¹ Refer to § 679.2 for definitions of zones.

Halibut Discard Mortality Rates (DMRs)

To monitor halibut bycatch mortality allowances and apportionments, the Regional Administrator uses observed halibut bycatch rates, DMRs, and estimates of groundfish catch to project when a fishery's halibut bycatch mortality allowance or seasonal apportionment is reached. The DMRs are based on the best information available, including information contained in the annual SAFE report.

NMFS proposes the halibut DMRs developed and recommended by the International Pacific Halibut Commission (IPHC) and the Council for the 2014 and 2015 BSAI groundfish fisheries for use in monitoring the 2014 and 2015 halibut bycatch allowances (see Tables 6, 7, 9, 10, and 11). The IPHC developed these DMRs for the 2013 to 2015 BSAI fisheries using the 10-year mean DMRs for those fisheries. The IPHC will analyze observer data annually and recommend changes to the DMRs when a fishery DMR shows large variation from the mean. A discussion of the DMRs and their justification is available from the Council (see ADDRESSES). Table 12 lists the 2014 and 2015 DMRs.

Table 12—Proposed 2014 and 2015 Assumed Pacific Halibut Discard Mortality Rates for the BSAI
Gear | Fishery | Halibut discard mortality rate (percent)
Non-CDQ hook-and-line | Greenland turbot | 13
| Other species ¹ | 9
| Pacific cod | 9
| Rockfish | 4
Non-CDQ trawl | Alaska Plaice | 71
| Arrowtooth flounder ² | 76
| Atka mackerel | 77
| Flathead sole | 73
| Greenland turbot | 64
| Kamchatka flounder | 71
| Non-pelagic pollock | 77
| Pelagic pollock | 88
| Other flatfish ³ | 71
| Other species ¹ | 71
| Pacific cod | 71
| Rockfish | 79
| Rock sole | 85
| Sablefish | 75
| Yellowfin sole | 83
Non-CDQ pot | Other species ¹ | 8
| Pacific cod | 8
CDQ trawl | Atka mackerel | 86
| Arrowtooth flounder ² | 76
| Flathead sole | 79
| Kamchatka flounder | 90
| Non-pelagic pollock | 83
| Pelagic pollock | 90
| Pacific cod | 90
| Greenland turbot | 89
| Rockfish | 80
| Rock sole | 88
| Yellowfin sole | 86
CDQ hook-and-line | Greenland turbot | 4
| Pacific cod | 10
CDQ pot | Pacific cod | 8
| Sablefish | 34
¹ “Other species” includes skates, sculpins, sharks, squids, and octopuses.
² Arrowtooth flounder includes Kamchatka flounder.
³ “Other flatfish” includes all flatfish species, except for halibut (a prohibited species), flathead sole, Greenland turbot, rock sole, yellowfin sole, Kamchatka flounder, and arrowtooth flounder.

Listed AFA Catcher/Processor Sideboard Limits

Pursuant to § 679.64(a), the Regional Administrator is responsible for restricting the ability of listed AFA catcher/processors to engage in directed fishing for groundfish species other than pollock, to protect participants in other groundfish fisheries from adverse effects resulting from the AFA and from fishery cooperatives in the directed pollock fishery. These restrictions are set out as “sideboard” limits on catch. The basis for these proposed sideboard limits is described in detail in the final rules implementing the major provisions of the AFA (67 FR 79692, December 30, 2002) and Amendment 80 (72 FR 52668, September 14, 2007). Table 13 lists the proposed 2014 and 2015 catcher/processor sideboard limits.

All harvests of groundfish sideboard species by listed AFA catcher/processors, whether as targeted catch or incidental catch, will be deducted from the sideboard limits in Table 13. However, groundfish sideboard species that are delivered to listed AFA catcher/processors by catcher vessels will not be deducted from the 2014 and 2015 sideboard limits for the listed AFA catcher/processors.

Table 13—Proposed 2014 and 2015 BSAI Groundfish Sideboard Limits for Listed American Fisheries Act Catcher/Processors (C/Ps)
[Amounts are in metric tons]
Target species | Area | 1995-1997: Retained catch | 1995-1997: Total catch | 1995-1997: Ratio of retained catch of total catch | 2014 and 2015 ITAC available to all trawl C/Ps ¹ | 2014 and 2015 AFA C/P sideboard limit
Sablefish trawl | BS | 8 | 497 | 0.016 | 629 | 10
| AI | 0 | 145 | 0 | 427 | 0
Greenland turbot | BS | 121 | 17,305 | 0.007 | 1,369 | 10
| AI | 23 | 4,987 | 0.005 | 383 | 2
Arrowtooth flounder | BSAI | 76 | 33,987 | 0.002 | 21,250 | 43
Kamchatka flounder | BSAI | 76 | 33,987 | 0.002 | 6,035 | 12
Rock sole | BSAI | 6,317 | 169,362 | 0.037 | 80,384 | 2,974
Flathead sole | BSAI | 1,925 | 52,755 | 0.036 | 19,294 | 695
Alaska plaice | BSAI | 14 | 9,438 | 0.001 | 20,145 | 20
Other flatfish | BSAI | 3,058 | 52,298 | 0.058 | 2,975 | 173
Pacific ocean perch | BS | 12 | 4,879 | 0.002 | 6,528 | 13
| Eastern AI | 125 | 6,179 | 0.02 | 7,854 | 157
| Central AI | 3 | 5,698 | 0.001 | 5,602 | 6
| Western AI | 54 | 13,598 | 0.004 | 8,152 | 33
Northern rockfish | BSAI | 91 | 13,040 | 0.007 | 2,550 | 18
Rougheye rockfish | EBS/EAI | 50 | 2,811 | 0.018 | 161 | 3
| CAI/WAI | 50 | 2,811 | 0.018 | 204 | 4
Shortraker rockfish | BSAI | 50 | 2,811 | 0.018 | 315 | 6
Other rockfish | BS | 18 | 621 | 0.029 | 340 | 10
| AI | 22 | 806 | 0.027 | 402 | 11
Atka mackerel | Central AI
| A season ² | n/a | n/a | 0.115 | 3,136 | 361
| B season ² | n/a | n/a | 0.115 | 3,136 | 361
| Western AI
| A season ² | n/a | n/a | 0.2 | 670 | 134
| B season ² | n/a | n/a | 0.2 | 670 | 134
Skates | BSAI | 553 | 68,672 | 0.008 | 20,400 | 163
Sculpins | BSAI | 553 | 68,672 | 0.008 | 4,760 | 38
Sharks | BSAI | 553 | 68,672 | 0.008 | 128 | 1
Squids | BSAI | 73 | 3,328 | 0.022 | 425 | 9
Octopuses | BSAI | 553 | 68,672 | 0.008 | 425 | 3
¹ Aleutians Islands Pacific ocean perch, and BSAI Atka mackerel, flathead sole, rock sole, and yellowfin sole are multiplied by the remainder of the TAC of that species after subtracting the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
Note: Section 679.64(a)(1)(v) exempts AFA catcher/processors from a yellowfin sole sideboard limit because the 2014 and 2015 aggregate ITAC of yellowfin sole assigned to the Amendment 80 sector and BSAI trawl limited access sector is greater than 125,000 mt.

Section 679.64(a)(2) and Tables 40 and 41 to part 679 establish a formula for calculating PSC sideboard limits for listed AFA catcher/processors. The basis for these sideboard limits is described in detail in the final rules implementing the major provisions of the AFA (67 FR 79692, December 30, 2002) and Amendment 80 (72 FR 52668, September 14, 2007).

PSC species listed in Table 14 that are caught by listed AFA catcher/processors participating in any groundfish fishery other than pollock will accrue against the proposed 2014 and 2015 PSC sideboard limits for the listed AFA catcher/processors. Section 679.21(e)(3)(v) authorizes NMFS to close directed fishing for groundfish other than pollock for listed AFA catcher/processors once a proposed 2014 or 2015 PSC sideboard limit listed in Table 14 is reached.

Crab or halibut PSC caught by listed AFA catcher/processors while fishing for pollock will accrue against the bycatch allowances annually specified for either the midwater pollock or the pollock/Atka mackerel/“other species” fishery categories, according to regulations at § 679.21(e)(3)(iv).

Table 14—Proposed 2014 and 2015 BSAI Prohibited Species Sideboard Limits for American Fisheries Act Listed Catcher/Processors
PSC species and area ¹ | Ratio of PSC to total PSC | Proposed 2014 and 2015 PSC available to trawl | Proposed 2014 and 2015 C/P sideboard limit ¹
BSAI Halibut mortality | n/a | n/a | 286
Red king crab Zone 1 ² | 0.007 | 86,621 | 606
C. opilio (COBLZ) ² | 0.153 | 9,377,690 | 1,434,787
C. bairdi | n/a | n/a | n/a
Zone 1 ² | 0.14 | 875,140 | 122,520
Zone 2 ² | 0.05 | 2,652,210 | 132,611
¹ Refer to § 679.2 for definitions of areas.
² Halibut amounts are in metric tons of halibut mortality. Crab amounts are in numbers of animals.

AFA Catcher Vessel Sideboard Limits

Pursuant to § 679.64(b), the Regional Administrator is responsible for restricting the ability of AFA catcher vessels to engage in directed fishing for groundfish species other than pollock, to protect participants in other groundfish fisheries from adverse effects resulting from the AFA and from fishery cooperatives in the directed pollock fishery. Section 679.64(b) establishes formulas for setting AFA catcher vessel groundfish and PSC sideboard limits for the BSAI. The basis for these sideboard limits is described in detail in the final rules implementing the major provisions of the AFA (67 FR 79692, December 30, 2002) and Amendment 80 (72 FR 52668, September 14, 2007). Tables 15 and 16 list the proposed 2014 and 2015 AFA catcher vessel sideboard limits.

All catch of groundfish sideboard species made by non-exempt AFA catcher vessels, whether as targeted catch or as incidental catch, will be deducted from the 2014 and 2015 sideboard limits listed in Table 15.

Table 15—Proposed 2014 and 2015 BSAI Groundfish Sideboard Limits for American Fisheries Act Catcher Vessels (CVs)
[Amounts are in metric tons]
Species | Fishery by area/gear/season | Ratio of 1995-1997 AFA CV catch to 1995-1997 TAC | 2014 and 2015 initial TAC ¹ | 2014 and 2015 AFA catcher vessel sideboard limits
Pacific cod | BSAI | n/a | n/a | n/a
| Jig gear | 0 | 3,063 | 0
| Hook-and-line CV | n/a | n/a | n/a
| Jan 1-Jun 10 | 0.0006 | 222 | 0
| Jun 10-Dec 31 | 0.0006 | 214 | 0
| Pot gear CV | n/a | n/a | n/a
| Jan 1-Jun 10 | 0.0006 | 9,338 | 6
| Sept 1-Dec 31 | 0.0006 | 8,971 | 5
| CV< 60 ft LOA using hook-and-line or pot gear | 0.0006 | 4,359 | 3
| Trawl gear CV | n/a | n/a | n/a
| Jan 20-Apr 1 | 0.8609 | 35,780 | 30,803
| Apr 1-Jun 10 | 0.8609 | 5,319 | 4,579
| Jun 10-Nov 1 | 0.8609 | 7,253 | 6,244
Sablefish | BS trawl gear | 0.0906 | 629 | 57
| AI trawl gear | 0.0645 | 427 | 28
Atka mackerel | Eastern AI/BS | n/a | n/a | n/a
| Jan 1-Jun 10 | 0.0032 | 82,500 | 264
| Jun 10-Nov 1 | 0.0032 | 82,500 | 264
| Central AI | n/a | n/a | n/a
| Jan 1-Jun 10 | 0.0001 | 3,136 | 0
| Jun 10-Nov 1 | 0.0001 | 3,136 | 0
| Western AI | n/a | n/a | n/a
| Jan 1-Jun 10 | 0 | 670 | 0
| Jun 10-Nov 1 | 0 | 670 | 0
Greenland turbot | BS | 0.0645 | 1,369 | 88
| AI | 0.0205 | 383 | 8
Arrowtooth flounder | BSAI | 0.069 | 21,250 | 1,466
Kamchatka flounder | BSAI | 0.069 | 6,035 | 416
Rock sole | BSAI | 0.0341 | 80,384 | 2,741
Flathead sole | BS trawl gear | 0.0505 | 22,699 | 1,146
Alaska plaice | BSAI | 0.0441 | 20,145 | 888
Other flatfish | BSAI | 0.0441 | 2,975 | 131
Pacific ocean perch | BS | 0.1 | 6,528 | 653
| Eastern AI | 0.0077 | 7,854 | 60
| Central AI | 0.0025 | 5,602 | 14
| Western AI | 0 | 8,152 | 0
Northern rockfish | BSAI | 0.0084 | 2,550 | 21
Rougheye rockfish | EBS/EAI | 0.0037 | 161 | 1
| CAI/WAI | 0.0037 | 204 | 1
Shortraker rockfish | BSAI | 0.0037 | 315 | 1
Other rockfish | BS | 0.0048 | 340 | 2
| AI | 0.0095 | 402 | 4
Skates | BSAI | 0.0541 | 20,400 | 1,104
Sculpins | BSAI | 0.0541 | 4,760 | 258
Sharks | BSAI | 0.0541 | 128 | 7
Squids | BSAI | 0.3827 | 425 | 163
Octopuses | BSAI | 0.0541 | 425 | 23
¹ Aleutians Islands Pacific ocean perch, Atka mackerel, flathead sole, rock sole, and yellowfin sole are multiplied by the remainder of the TAC of that species after the subtraction of the CDQ reserve under § 679.20(b)(1)(ii)(C).
Note: Section 679.64(b)(6) exempts AFA catcher vessels from a yellowfin sole sideboard limit because the 2014 and 2015 aggregate ITAC of yellowfin sole assigned to the Amendment 80 sector and BSAI trawl limited access sector is greater than 125,000 mt.

Halibut and crab PSC limits listed in Table 16 that are caught by AFA catcher vessels participating in any groundfish fishery other than pollock will accrue against the 2014 and 2015 PSC sideboard limits for the AFA catcher vessels. Sections 679.21(d)(8) and 679.21(e)(3)(v) authorize NMFS to close directed fishing for groundfish other than pollock for AFA catcher vessels once a proposed 2014 and 2015 PSC sideboard limit listed in Table 16 is reached. The PSC that is caught by AFA catcher vessels while fishing for pollock in the Bering Sea subarea will accrue against the bycatch allowances annually specified for either the midwater pollock or the pollock/Atka mackerel/“other species” fishery categories under regulations at § 679.21(e)(3)(iv).

Table 16—Proposed 2014 and 2015 American Fisheries Act Catcher Vessel Prohibited Species Catch Sideboard Limits for the BSAI ¹
PSC species and area ² | Target fishery category ³ | AFA catcher vessel PSC sideboard limit ratio | Proposed 2014 and 2015 PSC limit after subtraction of PSQ reserves | Proposed 2014 and 2015 AFA catcher vessel PSC sideboard limit
Halibut | Pacific cod trawl | n/a | n/a | 887
| Pacific cod hook-and-line or pot | n/a | n/a | 2
| Yellowfin sole total | n/a | n/a | 101
| Rock sole/flathead sole/other flatfish⁴ | n/a | n/a | 228
| Greenland turbot/arrowtooth/sablefish ⁵ | n/a | n/a | 0
| Rockfish | n/a | n/a | 2
| Pollock/Atka mackerel/other species⁶ | n/a | n/a | 5
Red king crab Zone 1 | n/a | 0.299 | 86,621 | 25,900
C. opilio COBLZ | n/a | 0.168 | 9,377,690 | 1,575,452
C. bairdi Zone 1 | n/a | 0.33 | 875,140 | 288,796
C. bairdi Zone 2 | n/a | 0.186 | 2,652,210 | 493,311
¹ Halibut amounts are in metric tons of halibut mortality. Crab amounts are in numbers of animals.
² Refer to § 679.2 for definitions of areas.
³ Target fishery categories are defined in regulation at § 679.21(e)(3)(iv).
⁴ “Other flatfish” for PSC monitoring includes all flatfish species, except for halibut (a prohibited species), arrowtooth flounder, flathead sole, Greenland turbot, rock sole, and yellowfin sole.
⁵ Arrowtooth for PSC monitoring includes Kamchatka flounder.
⁶ “Other species” for PSC monitoring includes skates, sculpins, sharks, and octopuses.

Classification

NMFS has determined that the proposed harvest specifications are consistent with the FMP and preliminarily determined that the proposed harvest specifications are consistent with the Magnuson-Stevens Act and other applicable laws.

This action is authorized under 50 CFR 679.20 and is exempt from review under Executive Orders 12866 and 13563.

NMFS prepared an EIS for this action and made it available to the public on January 12, 2007 (72 FR 1512). On February 13, 2007, NMFS issued the Record of Decision (ROD) for the EIS. A Supplemental Information Report (SIR) that assesses the need to prepare a Supplemental EIS is being prepared for the final action. Copies of the EIS, ROD, and SIR for this action are available from NMFS (see ADDRESSES). The EIS analyzes the environmental consequences of the proposed groundfish harvest specifications and alternative harvest strategies on resources in the action area. The EIS found no significant environmental consequences from the proposed action or its alternatives.

NMFS prepared an Initial Regulatory Flexibility Analysis (IRFA), as required by section 603 of the Regulatory Flexibility Act, analyzing the methodology for establishing the relevant TACs. The IRFA evaluates the impacts on small entities of alternative harvest strategies for the groundfish fisheries in the exclusive economic zone off Alaska. As set forth in the methodology, TACs are set to a level that fall within the range of ABCs recommended by the SSC; the sum of the TACs must achieve OY specified in the FMP. While the specific numbers that the methodology may produce vary from year to year, the methodology itself remains constant.

A description of the proposed action, why it is being considered, and the legal basis for this proposed action are contained in the preamble above. A copy of the analysis is available from NMFS (see ADDRESSES). A summary of the IRFA follows. The action under consideration is a harvest strategy to govern the catch of groundfish in the BSAI. The preferred alternative is the existing harvest strategy in which TACs fall within the range of ABCs recommended by the SSC, but, as discussed below, NMFS considered other alternatives. This action is taken in accordance with the FMP prepared by the Council pursuant to the Magnuson-Stevens Act.

The entities directly regulated by this action are those that harvest groundfish in the exclusive economic zone of the BSAI and in parallel fisheries within State of Alaska waters. These include entities operating catcher vessels and catcher/processors within the action area, and entities receiving direct allocations of groundfish.

On June 20, 2013, the Small Business Administration (SBA) issued a final rule revising the small business size standards for several industries effective July 22, 2013 (78 FR 37398; June 20, 2013). The rule increased the size standard for Finfish Fishing from $4.0 to 19.0 million, Shellfish Fishing from $4.0 to 5.0 million, and Other Marine Fishing from $4.0 to 7.0 million. The new size standards were used to prepare the IRFA for this action. Fishing vessels are considered small entities if their total annual gross receipts, from all their activities combined, are less than $19.0 million.

The directly regulated small entities include approximately 428 small catcher vessels, seven small catcher/processors, and six CDQ groups. The IRFA estimates the number of harvesting vessels that are considered small entities, but these estimates may overstate the number of small entities because (1) some vessels may also be active as tender vessels in the salmon fishery, fish in areas other than Alaska and the West Coast, or generate revenue from other non-fishing sources; and (2) all affiliations are not taken into account, especially if the vessel has affiliations not tracked in available data (i.e., ownership of multiple vessel or affiliation with processors) and may be misclassified as a small entity. Because the 428 CVs and seven C/Ps meet this size standard, they are considered to be small entities for the purposes of this analysis.

The preferred alternative (Alternative 2) was compared to four other alternatives. These included Alternative 1, which would have set TACs to generate fishing rates equal to the maximum permissible ABC (if the full TAC were harvested), unless the sum of TACs exceeded the BSAI OY, in which case TACs would have been limited to the OY. Alternative 3 would have set TACs to produce fishing rates equal to the most recent 5-year average fishing rates. Alternative 4 would have set TACs equal to the lower limit of the BSAI OY range. Alternative 5, the “no action” alternative, would have set TACs equal to zero.

The TACs associated with the preferred harvest strategy are those adopted by the Council in October 2013, as per Alternative 2. OFLs and ABCs for the species were based on recommendations prepared by the Council's BSAI Plan Team in September 2013, and reviewed and modified by the Council's SSC in October 2013. The Council based its TAC recommendations on those of its AP, which were consistent with the SSC's OFL and ABC recommendations.

Alternative 1 selects harvest rates that will allow fishermen to harvest stocks at the level of ABCs, unless total harvests were constrained by the upper bound of the BSAI OY of two million mt. As shown in Table 1 of the preamble, the sum of ABCs in 2014 and 2015 would be about 2,686,688 mt, which falls above the upper bound of the OY range. The sum of TACs is equal to the sum of ABCs. In this instance, Alternative 1 is consistent with the preferred alternative (Alternative 2), meets the objectives of that action, and has small entity impacts that are equivalent to the preferred alternative.

Alternative 3 selects harvest rates based on the most recent 5 years of harvest rates (for species in Tiers 1 through 3) or for the most recent 5 years of harvests (for species in Tiers 4 through 6). This alternative is inconsistent with the objectives of this action, (the Council's preferred harvest strategy) because it does not take account of the most recent biological information for this fishery. Harvest rates are listed for each species category for each year in the SAFE report (see ADDRESSES).

Alternative 4 would lead to significantly lower harvests of all species and reduce TACs from the upper end of the OY range in the BSAI, to its lower end of 1.4 million mt. Overall, this would reduce 2014 TACs by about 30 percent, which would lead to significant reductions in harvests of species by small entities. While reductions of this size would be associated with offsetting price increases, the size of these increases is very uncertain. There are close substitutes for BSAI groundfish species available from the GOA. While production declines in the BSAI would undoubtedly be associated with significant price increases in the BSAI, these increases would still be constrained by production of substitutes, and are very unlikely to offset revenue declines from smaller production. Thus, this alternative action would have a detrimental impact on small entities.

Alternative 5, which sets all harvests equal to zero, would have a significant adverse impact on small entities and would be contrary to obligations to achieve OY on a continuing basis, as mandated by the Magnuson-Stevens Act.

In 2012, there were 595 individual catcher vessels with gross revenues less than or equal to $5 million. Many of these vessels are members of AFA inshore pollock cooperatives, GOA rockfish cooperatives, or crab rationalization cooperatives, and, since under the RFA it is the aggregate gross receipts of all participating members of the cooperative that must meet the “under $19 million” threshold, they are considered to be large entities within the meaning of the RFA. After accounting for membership in these cooperatives, NMFS estimates that there are an estimated 428 small catcher vessel entities remaining in the BSAI groundfish sector. These 428 vessels had average gross revenues of about $0.4 million.

In 2012, 45 catcher/processors grossed less than $19 million. In 2012, seven vessels in this group were affiliated through membership in three cooperatives (the Amendment 80 “Alaska Seafood Cooperative,” the Freezer Longline Conservation Cooperative, or the crab rationalization Intercooperative Exchange). After taking account of these affiliations, NMFS estimates that there are seven small catcher/processor entities. These seven entities had average gross revenues of about $1.8 million in 2012.

The proposed harvest specifications extend the current 2014 OFLs, ABCs, and TACs to 2014 and 2015, except for Pacific cod and Kamchatka flounder. As noted in the IRFA, the Council may modify these OFLs, ABCs, and TACs in December 2013, when it reviews the November 2013 meeting report from its groundfish Plan Team, and the December Council meeting reports of its SSC and AP. Because most 2014 TACs in the proposed 2014 and 2015 harvest specifications are unchanged from the 2014 harvest specification TACs, NMFS does not expect adverse impacts on small entities. Also, NMFS does not expect any changes made by the Council in December to be large enough to have an impact on small entities.

This action does not modify recordkeeping or reporting requirements, or duplicate, overlap, or conflict with any Federal rules.

Adverse impacts on marine mammals resulting from fishing activities conducted under these harvest specifications are discussed in the EIS (see ADDRESSES), and in the 2012 SIR (http://www.alaskafisheries.noaa.gov/analyses/specs/2012-13supplementaryinfoJan2012.pdf).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: December 3, 2013.
Alan D. Risenhoover,
Director, Office of Sustainable Fisheries, performing the functions and duties of the Deputy Assistant Administrator for Regulatory Programs, National Marine Fisheries Service.

[FR Doc. 2013-29352 Filed 12-9-13; 8:45 am]

BILLING CODE 3510-22-P